DEPARTMENT OF THE INTERIOR

National Park Service

[NPS-SERO-BISO-0412-10010; 2310-0046-422]

Final Environmental Impact Statement for the Oil and Gas Management Plan at Big South Fork National River and Recreation Area and Obed Wild and Scenic River, Tennessee and Kentucky

AGENCY: National Park Service, Department of the Interior.

ACTION: Notice of availability.

SUMMARY: Pursuant to the National Environmental Policy Act of 1969, 42 U.S.C. 4332(2)(C), the National Park Service (NPS) announces the availability of a Final Environmental Impact Statement (FEIS) for the Oil and Gas Management Plan (Plan) for BISO, Tennessee & Kentucky, and OBED, Tennessee. The Plan will guide the various actions that could be implemented for current and future management of oil and gas at these park units. It provides guidance for activities taken by owners and operators of private oil and gas rights to ensure these activities are conducted in a manner that protects park resources and values, visitor use and experience, and human health and safety.

DATES: The NPS will execute a Record of Decision (ROD) [no sooner than 30 days following publication by the Environmental Protection Agency of its Notice of Availability of the FEIS/Plan in the Federal Register.]

ADDRESSES: The FEIS/Plan is available in electronic format online at http://parkplanning.nps.gov/biso_obri_final_ogmp. A limited number of compact discs (CDs) and hard copies of the FEIS/Plan are also available at the BISO headquarters, 4564 Leatherwood Road, Oneida, TN 37841; and OBED headquarters, 208 North Maiden St, Wartburg, Tennessee 37887. Hard copies are also available for review in the following libraries:

McCreary County Public Library

6 North Main

Whitley City, KY 42653

Oneida Public Library

290 South Main Street

Oneida, TN 37841-2607

Fentress County Public Library

306 South Main Street,

Jamestown, TN 38556-3845.

Wartburg Public Library

514 Spring Street,

Wartburg, TN 37887.

Oak Ridge Public Library

1401 Oak Ridge Turnpike,

Oak Ridge, TN 37830.

You may also request a CD or hard copy by writing the Superintendent of BISO or the Unit Manager of OBED at the above addresses; or by phone at (423) 569-9778 and (423) 346-6294, respectively.

SUPPLEMENTARY INFORMATION: The FEIS/Plan responds to, and incorporates, agency and public comments received on the draft plan/EIS, which was available for public review from June 15, 2011 through August 16, 2011. Five public meetings were held from July 18 through 22, 2011 to gather input on the draft plan/EIS. Twenty-four pieces of correspondence were received during the public review period. NPS responses to substantive agency and public comments are provided as Appendix O of the final plan/EIS.

The FEIS/Plan evaluates three alternatives for managing oil and gas in BISO and OBED. The NPS preferred alternative is “Alternative C: Comprehensive Implementation of 9B Regulations, New Management Framework for Plugging and Reclamation, and Establishment of Special Management Areas.” This alternative includes proactive enforcement of the NPS regulations pertaining to non-federal oil and gas operations (Title 36 of the Code of Federal Regulations (CFR), Part 9 Subpart B) and existing plans of operations; clear communication with the public and operators about current legal and policy requirements; increased inspections and monitoring to identify sites that are found to be impacting, or threatening to impact park resources beyond the operations area to bring these sites into compliance; focusing staff resources on the implementation and compliance with the regulatory framework; a new management framework for efficiently completing compliance processes necessary for plugging and reclamation of wells; and establishment of `Special Management Areas' to provide protection for areas where park resources and values are particularly susceptible to adverse impacts from oil and gas development. When approved, the Plan will guide oil and gas management in BISO and OBED over the next 15 to 20 years.

Authority: The authority for publishing this notice is 40 CFR 1506.6.

FOR FURTHER INFORMATION CONTACT: Tom Blount, Big South Fork National River and Recreation Area and Obed Wild and Scenic River Chief of Resources, 4564 Leatherwood Road, Oneida, TN 37841; (423) 569-9778.

The responsible official for this FEIS/Plan is the Regional Director, Southeast Region, NPS, 100 Alabama Street SW., 1924 Building, Atlanta, Georgia 30303.

Dated: June 25, 2012.
Gordon Wissinger,
Acting Regional Director, Southeast Region.

[FR Doc. 2012-17677 Filed 7-19-12; 8:45 am]

BILLING CODE 4210-JD-P